GENERAL SERVICES ADMINISTRATION

National Travel Forum 2004: Traveling on the Frontier of Change (NTF 2004)

AGENCY: Office of Governmentwide Policy, General Services Administration (GSA).

ACTION: Notice.

SUMMARY: The General Services Administration (GSA) is announcing that it will hold its third national travel forum. The National Travel Forum 2004: Traveling on the Frontier of Change (NTF 2004) will take place June 28-July 1, 2004 at the Wyndham Anatole in Dallas, Texas. Nearly 1,500 travel, relocation, financial and other professionals within Federal, State, and local governments, as well as the private sector will attend. Much of the focus will be on the governmentwide eTravel Service (eTS), the Federal Premier Lodging Program (FPLP), and revised relocation regulations. Best practices in Government travel and relocation services, as well as many other topics will be discussed. To attend, exhibit, or hold an agency-wide meeting, visit the NTF 2004 Web site at http://www.nationaltravelforum.org.

FOR FURTHER INFORMATION CONTACT: Rick Freda, Office of Governmentwide Policy, at (202) 219-3500, or by e-mail to Rick.Freda@gsa.gov.

Dated: July 18, 2003.
Peggy DeProspero,
Director, Travel Management Policy.

[FR Doc. 03-18751 Filed 7-22-03; 8:45 am]

BILLING CODE 6820-24-P